DEPARTMENT OF DEFENSE

Department of the Navy

Notice of Intent To Prepare a Supplement to the Gulf of Alaska Navy Training Activities Draft Supplemental Environmental Impact Statement/Overseas Environmental Impact Statement

AGENCY: Department of the Navy (DoN), Department of Defense (DoD).

ACTION: Notice.

SUMMARY: The Department of the Navy (DoN) announces its intent to prepare a supplement to the December 2020 Gulf of Alaska (GOA) Navy Training Activities Draft Supplemental Environmental Impact Statement (EIS)/Overseas Environmental Impact Statement (OEIS). This supplement to the Draft Supplemental EIS/OEIS will address a change in the Study Area and the addition of a new Continental Shelf and Slope Mitigation Area.

ADDRESSES: Naval Facilities Engineering Command, Northwest, Attention: GOA Supplemental EIS/OEIS Project Manager, 1101 Tautog Circle, Suite 203, Silverdale, Washington 98315-1101, projectmanager@goaeis.com.

SUPPLEMENTATRY INFORMATION: Pursuant to section 102(2)(c) of the NEPA, regulations implemented by the Council on Environmental Quality (40 CFR parts 1500-1508), and Presidential Executive Order 12114, the DoN announced its intent to prepare a supplement to the 2011 GOA Navy Training Activities EIS/OEIS and 2016 GOA Navy Training Activities Supplemental EIS/OEIS in the Federal Register (FR) on February 10, 2020 (85 FR 7538), and invited the public to comment on the scope of the Supplemental EIS/OEIS. A Draft Supplemental EIS/OEIS was subsequently released on December 11, 2020 (85 FR 80093), in which the potential environmental effects associated with military readiness training activities conducted within the GOA Study Area were evaluated.

Since the release of the Draft Supplemental EIS/OEIS on December 11, 2020, the DoN has recognized that the size and shape of the Temporary Maritime Activities Area (TMAA) in the Gulf of Alaska does not provide sufficient space for the realistic maneuvering of vessels and aircraft during training exercises. The proposed study area will now include additional air space and sea space to the west and south of the TMAA. This additional area is referred to as the Western Maneuver Area (WMA) and is approximately 185,806 square nautical miles. The TMAA, as currently defined (approximately 42,146 square nautical miles), would remain unchanged with all activities involving active sonar and explosives still occurring in this area only. No new or increased training activities are proposed as part of the revised proposed action, only an expansion of the overall training area for vessel and aircraft maneuvering purposes. In addition, DoN proposes implementing a new mitigation area within the continental shelf and shelf slope area of the TMAA. To protect marine species and biologically important habitat, use of explosives (up to 10,000 feet altitude) would be restricted in this area.

All public comments received during the Draft Supplemental EIS/OEIS comment period (December 11, 2020, through February 16, 2021) are still valid and will be considered in the Final Supplemental EIS/OEIS for this action. Previously submitted comments need not be resubmitted. The supplement to the Draft Supplemental EIS/OEIS is expected to be available in March 2022. A Notice of Availability of the supplement to the Draft Supplemental EIS/OEIS will be published in the Federal Register at that time, and the supplement to the Draft Supplemental EIS/OEIS will be released for a public comment period of 45 days. No decision will be made to implement any alternative in the GOA Study Area until the NEPA process is complete and a Record of Decision is signed by the DoN.

Dated: January 25, 2022.
J.M. Pike,
Commander, Judge Advocate General's Corps, U.S. Navy, Federal Register Liaison Officer.

[FR Doc. 2022-01986 Filed 1-31-22; 8:45 am]

BILLING CODE 3810-FF-P